NATIONAL AERONAUTICS AND SPACE ADMINISTRATION

[Notice 13-102]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: September 19, 2013.

FOR FURTHER INFORMATION CONTACT: Robert H. Earp, III, Patent Attorney, Glenn Research Center at Lewis Field, Code 21-14, Cleveland, OH 44135; telephone (216) 433-5754; fax (216) 433-6790.

NASA Case No.: LEW-18949-1: Advanced High Temperature and Fatigue Resistant Environmental Barrier Coating Bond Coat Systems for SiC/SiC Ceramic Matrix Composites;

NASA Case No.: LEW-18844-1: Electrospun Nanofiber Coating of Fiber Materials: A Composite Toughening Approach;

NASA Case No.: LEW-18849-1: Paired Threaded Film Cooling Holes for Improved Turbine Film Cooling;

NASA Case No.: LEW-18960-1: Dry Snorkel Cold Immersion Suit for Hypothermia Prevention;

NASA Case No.: LEW-18903-1: Modeling and Simulation of a Solar Electric Propulsion Vehicle in Near-Earth Vicinity Including So0lar Array Degradation;

NASA Case No.: LEW-18934-1: Conditionally Active Min-Max Limit Regulators;

NASA Case No.: LEW-18964-1: High Temperature Lightweight Self-Healing Ceramic Composites for Aircraft Engine Applications;

NASA Case No.: LEW-18325-2: External Magnetic Field Reduction Techniquie for Advanced Stirling Radioisotope Generator;

NASA Case No.: LEW-18858-1: V-Cess: A Novel Flow Control Method Using A Shaped Recess;

NASA Case No.: LEW-18890-1: Suppression of Unwanted Noise and Howl in a Test Configureation Where a Jet Exhaust is Discharged into a Duct.

Sumara M. Thompson-King,
Deputy General Counsel.

[FR Doc. 2013-22725 Filed 9-18-13; 8:45 am]

BILLING CODE 7510-13-P